Memorandum of May 8, 2006

Assignment of Function Concerning Assistance to Afghanistan

Memorandum for the Secretary of State, the Director of the Office of National Drug Control Policy, and the Director of National Intelligence

By the authority vested in me as President by the Constitution and laws of the United States, including section 301 of title 3, United States Code, the function of the President under the heading “Economic Support Fund” in the Foreign Operations, Export Financing, and Related Programs Appropriations Act, 2006 (Public Law 109-102) that relates to waiver of a proviso is assigned to the Secretary of State. The Director of the Office of National Drug Control Policy and the Director of National Intelligence shall, consistent with applicable law, provide the Secretary of State with such information as may be necessary to assist the Secretary in the performance of such function.

The Secretary of State is authorized and directed to publish this memorandum in the Federal Register.

B

THE WHITE HOUSE,

Washington May 8, 2006.

[FR Doc. 06-4660

Filed 5-16-06; 10:06 am]

Billing code 4710-10-P